DEPARTMENT OF VETERANS AFFAIRS

Funding Opportunity Under Supportive Services for Veteran Families Program

AGENCY: Department of Veterans Affairs.

ACTION: Notice of funding availability.

SUMMARY: The Department of Veterans Affairs (VA) is announcing the availability of funds for supportive services grants under the Supportive Services for Veteran Families (SSVF) Program. This notice of funding availability (NOFA) contains information concerning the SSVF Program, the renewal and new applicant supportive services grant application processes, and the amount of funding available. Awards made for supportive services grants will fund operations beginning October 1, 2024.

DATES: Applications for supportive services grants under the SSVF Program must be received by the SSVF Program Office by 4 p.m. eastern time on February 23, 2024. In the interest of fairness to all competing applicants, this deadline is firm as to date and hour, and VA will treat as ineligible for consideration any application that is received after the deadline. Applicants should take this practice into account and make early submissions of their materials to avoid any risk of loss of eligibility brought about by unanticipated delays, computer service outages or other submission-related problems.

ADDRESSES: Information about the application can be downloaded from the SSVF website at www.va.gov/homeless/ssvf. Questions may be referred to the SSVF Program Office via email at SSVF@va.gov. For detailed SSVF Program information and requirements, see part 62 of title 38, Code of Federal Regulations (38 CFR part 62).

Submission of Application Package: Applicants must submit applications electronically following instructions found at www.va.gov/homeless/ssvf. Applications may not be mailed, hand-carried or sent by facsimile (FAX). Applications must be received in the SSVF Program Office by 4 p.m. eastern time on the application deadline date. Application materials must arrive as a complete package. Materials arriving separately will not be included in the application package for consideration and may result in the application package being rejected. See Section II.B. and II.C. of this NOFA for maximum allowable grant amounts.

Technical Assistance: Information regarding how to obtain technical assistance with the preparation of a renewal supportive services grant application is available on the SSVF Program website at www.va.gov/HOMELESS/SSVF.

SUPPLEMENTARY INFORMATION:

Funding Opportunity Title: Supportive Services for Veteran Families Program.

Announcement Type: Initial.

Funding Opportunity Number: VA-SSVF-103121.

Catalog of Federal Domestic Assistance Number: 64.033, VA Supportive Services for Veteran Families Program.

I. Funding Opportunity Description

A. Purpose: The SSVF Program's purpose is to provide supportive services grants to private non-profit organizations and consumer cooperatives who will coordinate or provide supportive services to very low-income Veteran families who (i) are residing in permanent housing and at risk of becoming homeless, (ii) are homeless and scheduled to become residents of permanent housing within a specified time period or (iii) after exiting permanent housing within a specified time period, are seeking other housing that is responsive to such very low-income Veteran family's needs and preferences.

SSVF delivers services using a housing-first approach that emphasizes permanent housing placement as the primary objective. Housing First is an evidence-based, cost-effective approach to ending homelessness for the most vulnerable and chronically homeless individuals (see B5_USICH_Housing_First_Checklist.pdf (va.gov).

SSVF prioritizes the delivery of rapid re-housing services to homeless Veteran households. Rapid re-housing is an intervention designed to help individuals and families quickly exit homelessness, return to housing in the community, and avoid homelessness again in the near term. The core components of a rapid re-housing program are housing identification, move-in and rent financial assistance, and rapid re-housing case management and services. These core components represent the minimum that a program must provide to households to be considered a rapid re-housing program. Applicants should familiarize themselves with the Homelessness Prevention and Rapid Re-housing Best Practice Standards found at www.va.gov/HOMELESS/SSVF.

B. Funding Priorities: The principal goal of this NOFA is to seek entities that have the greatest capacity to end homelessness among Veterans or sustain gains made in ending homelessness among Veterans. Priority will be given to grantees who can demonstrate the adoption of evidence-based practices in their application. Under Priority 1, VA will provide funding to existing grantees who have at least one of the following accreditations: 3-year accreditation from the Commission on Accreditation of Rehabilitation Facilities (CARF) in Employment and Community Services: Rapid Rehousing and Homeless Prevention standards, a 4-year accreditation in Housing Stabilization and Community Living Services from the Council on Accreditation's (COA) or a 3-year accreditation in The Joint Commission's (JC) Behavioral Health Care: Housing Support Services Standards. Priority 1 applicants must demonstrate that accreditation is active at the date of submission, and accreditation must be maintained throughout the project period and/or funding cycle. Priority 2 includes existing grantees not included in Priority 1 but who have annual awards and are seeking to renew their grants. Existing grantees are SSVF grantees that have a Memorandum of Agreement (MOA) for operations through September 30, 2024.

C. Definitions: Part 62 of title 38, Code of Federal Regulations (38 CFR part 62), contains definitions of terms used in the SSVF Program. In addition to the definitions and requirements described in 38 CFR part 62, this NOFA provides additional resources to secure permanent housing. These resources may be provided by the SSVF grantee under 38 CFR 62.34 to assist Veterans in remaining in or obtaining permanent housing. Grantees will be allowed to provide up to the equivalent of 2 months' rent in addition to the security deposit to landlords under 38 CFR 62.34(g) as a resource for any lease of not less than 1 year when necessary to assist a Veteran in remaining in or obtaining permanent housing. The additional funds may be used to facilitate the leasing of rental units to tenants with significant housing barriers. Landlords are less likely to lease to certain groups due to the risk of non-payment of rent or concerns about damage or disruption to their buildings. Tenants with significant housing barriers might include Veterans with poor credit histories and criminal justice involvement that might otherwise disqualify them from obtaining a lease. Veterans with histories of sex offenses are generally considered high-risk tenants by landlords.

Veterans are sometimes reluctant to move into apartments that do not offer any of the comforts typically associated with living independently. The General Housing Stability Assistance, provided under 38 CFR 62.34(e), while offering some funds for bedding and basic kitchen supplies, leaves significant needs unaddressed. Therefore, grantees also will be allowed to provide up to $1,000 to Veteran families for miscellaneous move-in expenses under 38 CFR 62.34(g), to encourage them to obtain permanent housing with a lease of not less than 1 year. These funds are to be provided to assist Veterans through accounts established at local merchants, such as grocery stores and retailers, in the enrolled Veteran's name. These items could include, but are not limited to, food, furniture, household items, electronics (including televisions) or other items typically associated with independent living in permanent housing. Furthermore, internet can now be considered as utilities as the definition for financial assistance as utility payments under 38 CFR 62.34(b) is expected with this NOFA to include these charges. Access to the internet is an essential component of the modern economy, comparable to utilities. Veterans without such access are put at a disadvantage in finding and applying for work opportunities, purchasing needed consumer goods at the lowest possible cost and communicating through email and other forms of social media.

In addition to the definitions and requirements described in 38 CFR part 62, this NOFA provides further clarification in this paragraph on the use of Emergency Housing Assistance (EHA). EHA may be provided by the SSVF grantee under 38 CFR 62.34(f) to offer transition in place when a permanent housing voucher, such as is offered through the Department of Housing and Urban Development's (HUD) Section 8 program, is available from any source, but access to the permanent housing voucher is pending completion of the housing inspection and administrative processes necessary for leasing. In such circumstances, the EHA payment cannot exceed what would otherwise be paid when the voucher is used. EHA also may be used as part of Rapid Resolution, also known as a diversion or problem-solving service, that helps Veteran households avoid entry into homelessness through placements with family or friends. EHA may also be used as an outreach tool to engage and offer housing to unsheltered homeless Veterans with significant housing needs who refuse to access traditional emergency shelter services in the community.

D. Approach: Respondents to this NOFA should base their proposals and applications on the current requirements of part 62. Grantees will be expected to leverage supportive services grant funds to enhance the housing stability of very low-income Veteran families who are occupying permanent housing. In doing so, grantees are required to establish relationships with local community resources. Therefore, agencies must work through coordinated partnerships built either through formal agreements or the informal working relationships commonly found among successful social service providers.

Through this NOFA, grantees can pay fees related to securing a lease of at least 1 year. In addition, as noted previously herein, Veterans are sometimes reluctant to move into apartments that do not offer any of the comforts typically associated with living independently. Pursuant to this NOFA, grantees would be able to use funds for miscellaneous expenses associated with moving into a new home. Moreover, nationally, the median average rental unit has increased in price by 28% through September 2023. Furthermore, service-connected Veterans with high levels of disability may have incomes that exceed the current SSVF income threshold of 50% of the area median income. These Veterans, some of the most vulnerable served by the VA, can be left ineligible for critically needed SSVF services. As a result, VA is invoking the provision in 38 U.S.C. 2044(f)(6)(C) and 38 CFR 62.2, allowing VA to establish an income ceiling higher or lower than 50% of the median income for an area if VA determines that such variations are necessary because the area has unusually high or low construction costs, fair market rents (as determined under section 8 of the United States Housing Act of 1937 (42 U.S.C. 1437f)) or family incomes. Area median income (AMI) is one factor SSVF uses to establish eligibility. A higher income ceiling, as reflected by the AMI, will allow grantees to serve Veterans who have endured significant increases in their housing cost burden, placing them at greater risk for homelessness.

For purposes of this NOFA, grantees will be able to serve Veterans in their communities who have up to 80% of the AMI. HUD-VA Supportive Housing (HUD-VASH) eligibility also has an income of 80% of AMI. Aligning SSVF and HUD-VASH eligibility will allow SSVF grantees' housing navigators to assist Veterans eligible for HUD-VASH as necessary with identifying and obtaining permanent housing. Aligning SSVF and HUD-VASH eligibility will also improve the coordination of care and simplify and standardize eligibility determinations.

Applicants are strongly encouraged to provide letters of support from the Continuums of Care (CoC) in the location where they plan to deliver services, reflecting the applicant's engagement in the CoC's efforts to coordinate services. A CoC is a community planning entity that organizes and delivers housing and services to meet the needs of people who are homeless as they move to stable housing and maximize self-sufficiency. The CoC includes action steps to end homelessness and prevent a return to homelessness. CoC locations and contact information can be found at https://www.hudexchange.info/grantees/contacts/?params=%7B%22limit%22%3A20%2C%22sort%22%3A%22%22%2C%22order%22%3A%22%22%2C%22years%22%3A%5B%5D%2C%22searchTerm%22%3A%22%22%2C%22grantees%22%3A%5B%5D%2C%22state%22%3A%22%22%2C%22programs%22%3A%5B3%5D%2C%22coc%22%3Atrue%7D##granteeSearch.

The CoC's letter of support should note if the applicant is providing assistance to the CoC in building local capacity to build Coordinated Entry Systems (CES) and the value and form of that assistance, whether support is direct funding or staffing. CES requires that providers operating within the CoC's geographic area must also work together to ensure the CoC's coordinated entry process allows for coordinated screening, assessment and referrals (HUD Notice: CPD-17-01). The CoC's letter of support also must describe the applicant's participation in the CoC's community planning efforts. Failure for a Priority 1 or Priority 2 applicant to provide a letter of support from the CoC as described will limit the maximum award to 90% of the award made in the previous fiscal year (FY) as described herein at II.C.7. In addition, any applicant proposing to serve an Indian Tribal area is strongly encouraged to provide a letter of support from the relevant Indian Tribal Government.

The aim of the provision of supportive services is to assist very low-income Veteran families residing in permanent housing to remain stably housed and to rapidly transition those not currently in permanent housing to stable housing. Assistance in obtaining or retaining permanent housing is a fundamental goal of the SSVF Program. SSVF emphasizes the placement of homeless Veteran families who are described in 38 CFR 62.11(b)-(c) as follows:

(b)(1) Is lacking a fixed, regular and adequate nighttime residence, meaning:

(i) That the Veteran family's primary nighttime residence is a public or private place not designed for or ordinarily used as a regular sleeping accommodation for human beings, including a car, park, abandoned bus or train station, airport or camping ground,

(ii) That the Veteran family is living in a supervised publicly or privately operated shelter designated to provide temporary living arrangements (including congregate shelters, transitional housing and hotels and motels paid for by charitable organizations or by Federal, State or local government programs for low-income individuals) or

(iii) That the Veteran family is exiting an institution where the Veteran family resided for 90 days or less and who resided in an emergency shelter or place not meant for human habitation immediately before entering that institution,

(b)(2) Are at risk to remain in the situation described herein at paragraph (b)(1) of this section but for the grantee's assistance and

(b)(3) Scheduled to become a resident of permanent housing within 90 days pending the location or development of housing suitable for permanent housing or

(c) Has met any of the conditions described herein at paragraph (b)(1) of this section after exiting permanent housing within the previous 90 days to seek other housing that is responsive to the very low-income Veteran family's needs and preferences.

E. Authority: Funding available under this NOFA is authorized by 38 U.S.C. 2044. VA implements the SSVF Program through regulations in 38 CFR part 62. Funds made available under this NOFA are subject to the requirements of these regulations.

F. Requirements for the Use of Supportive Services Grant Funds: The applicant's request for funding must be consistent with the limitations and uses of supportive services grant funds set forth in 38 CFR part 62 and this NOFA. In accordance with 38 CFR part 62 and this NOFA, the following requirements apply to supportive services grants awarded under this NOFA:

1. Grantees may use a maximum of 10% of supportive services grant funds for administrative costs identified in 38 CFR 62.70(e).

2. Grantees must enroll a minimum of 60% of Veteran households who are literally homeless and qualify under 38 CFR 62.11(b). (NOTE: Grantees may request a waiver to decrease this minimum, as discussed herein at section V.B.3.a.)

3. Grantees are required to have available temporary financial assistance resources that can be paid directly to a third party on behalf of a participant and may be used for childcare, emergency housing assistance, transportation, rental assistance, utility-fee payment assistance, security deposits, utility deposits, moving costs and general housing stability assistance (which includes emergency supplies) and as otherwise stated in 38 CFR 62.33 and 38 CFR 62.34.

4. Grantees are able to provide up to $1,000 supplemental assistance to every Veteran household who obtains a lease of not less than 1 year to cover miscellaneous move-in expenses.

5. Grantees are able to pay landlords up to an amount equal to 2 months' rent for fees related to securing a lease of at least 1 year. This incentive may be provided at lease-up or split up into multiple payments to be paid within the first 90 days of the Veteran being housed.

G. Guidance for the Use of Supportive Services Grant Funds: Grantees are expected to demonstrate the adoption of evidence-based practices most likely to prevent and lead to reductions in homelessness. As part of their application, the applying organization's Executive Director must certify on behalf of the agency that they will actively participate in community planning efforts and operate the program in a manner consistent with core concepts found at https://www.va.gov/homeless/ssvf/ssvf-coreconcepts. Housing is not contingent on compliance with mandated therapies or services; instead, participants must comply with a standard lease agreement and be provided with the services and supports that are necessary to help them do so successfully. Case management supporting permanent housing should include tenant counseling, mediation with landlords and outreach to landlords.

Grantees must develop plans that will ensure that Veteran participants have the level of income and economic stability needed to remain in permanent housing after the conclusion of the SSVF intervention. Both employment and benefits assistance from VA and non-VA sources represent a significantly underutilized source of income stability for homeless Veterans. Income is not a pre-condition for housing. Case management should include income maximization strategies to ensure households have access to benefits, employment and financial counseling. The complexity of program rules and the stigma some associate with entitlement programs contribute to their lack of use. For this reason, grantees are encouraged to consider strategies that can lead to prompt and successful access to employment and benefits that are essential to retaining housing. Consistent with 38 CFR 62.30-62.34, grantees are expected to offer the following supportive services: counseling participants about housing; assisting participants in understanding leases; securing utilities; making moving arrangements; providing representative payee services concerning rent and utilities when needed; using health care navigation services to help participants access health and mental health care; providing legal services; and providing mediation and outreach to property owners related to locating or retaining housing. Grantees also may assist participants by providing rental assistance; security or utility deposits; moving costs; emergency housing; or general housing stability assistance; or using other Federal resources, such as the HUD Emergency Solutions Grants Program (ESG) or supportive services grant funds subject to the limitations described in this NOFA and 38 CFR 62.34.

1. As SSVF is a short-term crisis intervention, grantees must develop plans that will produce sufficient income or supports to sustain Veteran participants in permanent housing after the conclusion of the initial SSVF intervention. Grantees must ensure the availability of employment and vocational services either through the direct provision of these services or their availability through formal or informal service agreements. Agreements with Homeless Veteran Reintegration Programs (HVRP) funded by the U.S. Department of Labor are strongly encouraged. For participants unable to work due to disability, income must be established through available benefits programs.

2. Per 38 CFR 62.33, grantees must assist participants in obtaining public benefits. Grantees must screen all participants for eligibility for a broad range of entitlements such as the U.S. Department of Health and Human Services' (HHS) Temporary Assistance for Needy Families, Social Security, the U.S. Department of Agriculture's Supplemental Nutrition Assistance Program, the HHS Low-Income Home Energy Assistance Program, the Earned Income Tax Credit and local General Assistance programs. Grantees are expected to access the Substance Abuse and Mental Health Services Administration's Supplemental Security Income/Social Security Disability Insurance Outreach, Access, and Recovery (SOAR) program directly by training staff and providing the service or subcontracting services to an organization to provide SOAR services. In addition, where available, grantees should access information technology tools to support case managers in their efforts to link participants to benefits.

3. In accordance with 38 CFR 62.33(g), grantees must assist participants in obtaining and coordinating the provision of legal services relevant to issues that interfere with the participants' ability to obtain or retain permanent housing or supportive services. Grantees may provide legal services directly, through contract services, or through referrals to another entity. (NOTE: Information regarding legal services provided may be protected from being released to the grantee or VA under attorney-client privilege, although the grantee must provide sufficient information to demonstrate the frequency and type of service delivered.) Support for legal services can include paying for court filing fees to assist a participant with issues that interfere with the participant's ability to obtain or retain permanent housing or supportive services, including issues that affect the participant's employability and financial security. Grantees (in addition to employees and members of grantees) may represent participants before VA with respect to a claim for VA benefits, but only if they are recognized for that purpose pursuant to 38 U.S.C. chapter 59. Further, the individual providing such representation must be accredited pursuant to 38 U.S.C. chapter 59.

4. Access to mental health and addiction services is required by SSVF; however, grantees cannot fund these services directly through the SSVF grant. Applicants must demonstrate their ability to promote rapid access to and engagement with mental health and addiction services for the Veteran and family members. Grantees are required to hire staff who will provide health care navigation services that aid participants in accessing these health and mental health care services.

5. When serving participants who are residing in permanent housing, the defining question to ask is: “Would this individual or family be homeless but for this assistance?” The grantee must use a VA-approved screening tool with criteria that target those most at risk of homelessness. To qualify for SSVF services, a participant who is served under 38 CFR 62.11(a) (homeless prevention) must not have sufficient resources or support networks (e.g., family, friends, faith-based or other social networks) immediately available to prevent them from becoming homeless. To further qualify for services under 38 CFR 62.11(a), the grantee must document that the participant meets at least one of the following conditions for being at risk of homeless under 24 CFR 576.2:

(a) Has moved because of economic reasons two or more times during the 60 days immediately preceding the application for homelessness prevention assistance,

(b) Is living in the home of another because of economic hardship,

(c) Has been notified in writing that their right to occupy their current housing or living situation will be terminated within 21 days after the date of application for assistance,

(d) Lives in a hotel or motel, and the cost of the hotel or motel stay is not paid by charitable organizations or by Federal, State or local government programs for low-income individuals,

(e) Is exiting a publicly funded institution or system of care (such as a health care facility, a mental health facility or correctional institution) without a stable housing plan or

(f) Otherwise lives in housing that has characteristics associated with instability and an increased risk of homelessness, as identified in the recipient's approved screening tool.

6. SSVF grantees are required to participate in local planning efforts designed to end Veteran homelessness. Grantees may use grant funds to support SSVF involvement in such community planning by sub-contracting with CoCs, when such funding is essential, to create or sustain the development of these data driven plans.

7. When other funds from community resources are not readily available to assist program participants, grantees may choose to use supportive services grants, to the extent described in this NOFA and in 38 CFR 62.33 and 62.34, to provide temporary financial assistance. Such assistance may, subject to the limitations in this NOFA and 38 CFR part 62, be paid directly to a third party on behalf of a participant for childcare; transportation; family emergency housing assistance; rental assistance; utility-fee payment assistance; security or utility deposits; moving costs; and general housing stability assistance as necessary.

8. SSVF requires grantees to offer Rapid Resolution (also known as diversion or problem-solving) services. These services engage Veterans immediately before or after they become homeless and assist them to avoid continued homelessness. These efforts can reduce the trauma and expense associated with extended periods of homelessness, and the strain on the crisis response and affordable housing resources in the community. Through Rapid Resolution, the grantee and the Veteran explore safe, alternative housing options immediately before or quickly after they become homeless. Rapid Resolution can identify an immediate safe place to stay within the Veteran's network of family, friends or other social networks. All Veterans requesting SSVF services should have a Rapid Resolution screening and if not appropriate for Rapid Resolution grantees should then assess the Veteran for other SSVF services. More information about Rapid Resolution can be found at www.va.gov/homeless/ssvf.

II. Award Information

A. Overview: This NOFA announces the availability of funds for supportive services grants under the SSVF Program and pertains to proposals for the renewal of existing supportive services grant programs.

B. Funding: The funding priorities for this NOFA are as follows.

1. Priority 1. Under Priority 1, VA will provide funding to existing grantees who have at least one of the following accreditations: 3-year CARF accreditations in Employment and Community Services: Rapid Rehousing and Homeless Prevention standards, 4-year COA accreditations in Housing Stabilization and Community Living Services or 3-year JC accreditations in Behavioral Health Care: Housing Support Services Standards. Proof of accreditation must be submitted with the application no later than the application due date. The accreditation must be active at the date of submission. Existing grantees previously awarded under Priority 1 with grants scheduled to end by September 30, 2024, must apply using the renewal application. To be eligible for renewal of a supportive services grant, Priority 1 applicants' program must be substantially the same as the program of the grantees' current award. Renewal applications can request funding that is equal to or less than their current annualized amount. If sufficient funding is available, VA may provide an increase of the previous year's award. Any funding increase, if provided, will be based on previous grant funding utilization and enrollment. VA may award a 3-year project period as Priority 1 to those submitting successful applications who remain in good standing and show proof of accreditation.

Grantees previously awarded a 3-year project period that is not scheduled to end by September 30, 2024, cannot submit a renewal application package, under this NOFA but instead are required to submit a letter of intent (LOI) application package by the NOFA deadline indicating their intention of continuing SSVF services in FY 2025. All grantees submitting a LOI must include a letter of support from the CoC (see section II.C.7.) and a proposed budget for FY 2025. Priority 1 grantees submitting a LOI also must submit proof of continued accreditation. Based on the results of audit findings or performance concerns, VA may change grantees previously awarded funds as Priority 1 grantees into Priority 2 grantees at renewal. The reprioritized grantees would then be required to submit a renewal application for the FY 2026 grant year.

2. Priority 2. Priority 2 includes all other existing grantees seeking to renew their annual grant awards. Priority 2 applicants must apply using the renewal application. To be eligible for renewal of a supportive services grant, Priority 2 applicants' program must be substantially the same as the program of the grantees' current grant award. Renewal applications can request funding that is equal to or less than their current annualized award. If sufficient funding is available, VA may provide an increase of the previous year's award. Any funding increase, if provided, will be based on previous grant funding utilization and enrollment.

C. Allocation of Funds: Funding will be awarded under this NOFA to existing grantees for a 1-year project period (Priority 2) or a 3-year project period (Priority 1) beginning October 1, 2024. Priority 1 grantees who are awarded a 3-year project period will be funded for 1-year and given the option to submit a LOI to request to continue funding for each additional year. The following requirements apply to supportive services grants awarded under this NOFA:

1. In response to this NOFA, only existing grantees can apply as Priority 1 or Priority 2 applicants.

2. Priority 1 and Priority 2 renewal grant requests cannot exceed the current award.

3. If a Priority 1 or 2 applicant is not renewed, all existing SSVF grants made to the non-renewed grantee, including awards made to support 62.34(a), will be discontinued on September 30, 2024.

4. If a grantee failed to use any previously awarded funds or had unspent funds returned to VA, VA may elect to limit the renewal award to the amount of funds used in the previous fiscal year or in the current fiscal year less the money swept.

5. If, during the course of the grant year, VA determines that grantee spending is not meeting the following minimum percentage milestones, VA may elect to recoup projected unused funds and reprogram such funds to provide supportive services in areas with higher need. Should VA elect to recoup unspent funds, reductions in available grant funds would take place the first business day following the end of the quarter. VA may elect to recoup funds under the following circumstances:

(a) By the end of the first quarter (December 31, 2024) of the grantee's supportive services annualized grant award period, the grantee's cumulative requests for supportive services grant funds are less than an amount equal to 15% of total supportive services grant award. (During this same period, the grantee's cumulative requests for supportive services grant funds may not exceed 35% of the total supportive services grant award.)

(b) By the end of the second quarter (March 31, 2025) of the grantee's supportive services annualized grant award period, the grantee's cumulative requests for supportive services grant funds are less than an amount equal to 40% of total supportive services grant award. (During this same period, the grantee's cumulative requests for supportive services grant funds may not exceed 60% of the total supportive services grant award.)

(c) By the end of the third quarter (June 30, 2025) of the grantee's supportive services annualized grant award period, the grantee's cumulative requests for supportive services grant funds are less than an amount equal to 65% of total supportive services grant award. (During this same period, the grantee's cumulative requests for supportive services grant funds may not exceed 80% of the total supportive services grant award).

6. Priority 1 and Priority 2 applicants who fail to provide a letter of support from at least one of the CoCs they plan to serve will be eligible for renewal funding at a level no greater than 90% of their previous award. Applicants are responsible for determining who in each serviced CoC is authorized to provide such letters of support. Existing Priority 1 grantees operating under a 3-year project period that are only required to submit a LOI application package in response to this NOFA must also submit a letter of support from at least one of CoC's they plan to serve. The letter of support should include the following information described herein at 6a and b of this section. Applicants may seek an exception to this requirement if they submit a letter from the CoC stating that by policy they cannot provide a letter of support.

To meet this requirement and allow the applicant to be eligible for full funding, letters must include:

(a) A detailed description of the applicant's participation in the CoC's Coordinated Entry process or planning activities and overall community planning efforts (for example, confirmation of applic'nt's active participation in planning coordinated entry; commitment to participating in coordinated entry; hours spent on CoC-sponsored committee or workgroup assignments; and names of said committees or workgroups).

(b) The applic'nt's contribution to the 'oC's coordinated entry process capacity building efforts, detailing the specific nature of this contribution (for example, the hours of staff time and/or the amount of funding provided), if such SSVF capacity has been requested by the CoC or otherwise has shown to be of value to the CoC.

7. Should additional funding become available over the course of the grant term from funds recouped under the Award Information section of this Notice, from funds that are voluntarily returned by grantees, from funds that become available due to a grant termination or from other funds still available for grant awards, VA may elect to offer these funds to grantees in areas where demand has exceeded available SSVF resources. Additional funds will be provided to the highest scoring grantee in the selected area who is in compliance with their grant agreement and has the capacity to use the additional funds.

D. Supportive Services Grant Award Period: Priority 2 grants are made for a 1-year period. Some grantees may be eligible to apply as Priority 1 and could be selected for an award with the option to continue funding each year for up to three years, if they meet the criteria described herein at section VI.C.6. Grant renewals are eligible to be renewed subject to the availability of funding.

III. Eligibility Information

A. Eligible Applicants: Only eligible entities, as defined in 38 U.S.C. 2044(f), who are existing grantees can apply in response to this NOFA.

B. Cost Sharing or Matching: None.

IV. Application and Submission Information

A. Obtaining an Application Package: Applications are located at www.va.gov/homeless/ssvf. Any questions regarding this process may be referred to the SSVF Program Office via email at SSVF@va.gov. For detailed SSVF Program information and requirements, see 38 CFR part 62.

B. Content and Form of Application: Applicants must submit applications electronically following instructions found at www.va.gov/homeless/ssvf.

C. Submission Dates and Times: Applications for supportive services grants under the SSVF Program must be received by the SSVF Program Office by 4 p.m. Eastern Time on February 23, 2024. Awards made for supportive services grants will fund operations beginning October 1, 2024. Applications must arrive as a complete package. Materials arriving separately will not be included in the application package for consideration and may result in the application being rejected. In addition, in the interest of fairness to all competing applicants, this deadline is firm as to date and hour, and VA will treat as ineligible for consideration any application that is received after the deadline. Applicants should take this practice into account and make early submission of their materials to avoid any risk of loss of eligibility brought about by unanticipated delays, computer service outages, or other delivery-related problems.

D. Funding Restrictions: Funding will be awarded for existing supportive services grants under this NOFA depending on funding availability. Priority 1 and Priority 2 applicants should fill out separate applications for each supportive services funding request. Priority 1 and Priority 2 applicants must use applications designated for renewal applicants. Funding will be awarded under this NOFA to existing grantees beginning October 1, 2024.

1. Funding used for staff education and training cannot exceed 1% of the overall program grant award. This limitation does not include the cost to attend VA mandated training. All training costs must be directly related to the provision of services to homeless Veterans and their families.

2. Expenses related to maintaining accreditation are allowable. Grantees are allowed to include expenses for seeking initial accreditation only once in a 5-year period. The expenses to renew full accreditation are allowed and are based on the schedule of the accrediting agency: for example, every 3 years for CARF and every 4 years for COA. Expenses related to the renewal of less than full accreditation are not allowed.

E. Other Submission Requirements:

1. Existing applicants applying for Priority 1 or Priority 2 grants may apply only as renewal applicants using the application designed for renewal grants.

2. At the discretion of VA, multiple grant proposals submitted by the same lead agency may be combined into a single grant award if the proposals provide services to contiguous areas.

3. Additional supportive services grant application requirements are specified in the application package. Submission of an incorrect or incomplete application package will result in the application being rejected during threshold review. The application packages must contain all required forms and certifications. Selections will be made based on criteria described in 38 CFR part 62 and this NOFA. Applicants and grantees will be notified of any additional information needed to confirm or clarify information provided in the application and the deadline by which to submit such information. Applicants must submit applications electronically. Applications may not be mailed, hand carried or faxed.

V. Application Review Information

A. Criteria:

1. VA will screen all applications to identify those that meet the threshold requirements described in 38 CFR 62.21.

2. VA will use the criteria described in 38 CFR 62.24 to score grantees applying for renewal of a supportive services grant.

B. Review and Selection Process: VA will review all supportive services grant applications in response to this NOFA according to the following steps:

1. LOI applications that meet threshold requirements described in 38 CFR 62.21 will be offered funding.

2. Score all renewal applications that meet the threshold requirements described in 38 CFR 62.21.

3. Rank those renewal applications that score at least 75 cumulative points and receive at least 1 point under each of the categories identified for renewal applicants in 38 CFR 62.24. The applications will be ranked in order from highest to lowest scores in accordance with 38 CFR 62.25 for renewal applicants.

4. VA will use the ranked scores of renewal applications as the primary basis for selection. However, VA also will use the following considerations in 38 CFR 62.23(d) to select applicants for funding:

(a) Give preference to applications that provide or coordinate the provision of supportive services for very low-income Veteran families transitioning from homelessness to permanent housing. Consistent with this preference applicants are required to enroll no less than 60% of participants who are homeless as defined in 38 CFR 62.11(b) and (c). Rural areas and tribal areas are exempt from this requirement in areas defined as rural (https://www.hudexchange.info/programs/rhed/#:~:text=HUD%20defines%20rural%20in%20three,in%20a%20Metropolitan%20Statistical%20Area). Other areas may seek waivers to this 60% requirement when grantees can demonstrate significant local progress towards eliminating homelessness in the target service area. Waiver requests must include data from authoritative sources such as point-in-time counts and by-name-lists indicating that a community has made substantial enough progress on reducing homelessness that it can shift additional resources to prevention. Waiver requests must include an endorsement by the impacted CoC explicitly stating that a shift in resources from rapid re-housing to prevention will not result in an increase in homelessness. Grantees who are exempt or receive waivers to this 60% requirement must still enroll no less than 40% of all participants who are homeless as defined in 38 CFR 62.11 (b) and (c).

(b) To the extent practicable, ensure that supportive services grants are equitably distributed across geographic regions, including rural communities and tribal lands. This equitable distribution criteria will be used to ensure that SSVF resources are provided to those communities with the highest need as identified by VA's assessment of expected demand and available resources to meet that demand.

5. Subject to the considerations noted previously herein at paragraph B.4. VA will fund the highest-ranked applicants for which funding is available.

VI. Award Administration Information

A. Award Notices: Although subject to change, the SSVF Program Office expects to announce grant recipients for all applicants in the fourth quarter of FY 2024 with grants beginning October 1, 2024. Prior to executing a funding agreement, VA will contact the applicants, make known the amount of proposed funding and verify that the applicant is still seeking the funding. Once VA verifies that the applicant is still seeking funding, VA will execute an agreement and make payments to the grant recipient in accordance with 38 CFR part 62 and this NOFA.

B. Administrative and National Policy Requirements: As cited in 38 CFR 62.38 SSVF grants cannot be used to fund ineligible activities.

C. Reporting: VA places great emphasis on the responsibility and accountability of grantees. As described in 38 CFR 62.63 and 62.71, VA has procedures in place to monitor supportive services provided to participants and outcomes associated with the supportive services provided under the SSVF Program. Applicants should be aware of the following:

1. Upon execution of a supportive services grant agreement with VA, grantees will have a VA regional coordinator assigned by the SSVF Program Office who will provide oversight and monitor supportive services provided to participants.

2. Grantees will be required to enter data into a Homeless Management Information System (HMIS) web-based software application. This data will consist of information on the participants served and types of supportive services provided by grantees. Grantees must treat the data for activities funded by the SSVF Program separate from that of activities funded by other programs. Grantees will be required to work with their HMIS Administrators to export client-level data for activities funded by the SSVF Program to VA on at least a monthly basis. The completeness, timeliness and quality of grantee uploads into HMIS will be factored into the evaluation of their grant performance.

3. VA will complete annual monitoring evaluations of each grantee. Monitoring will also include the submittal of quarterly and annual financial and performance reports by the grantee. The grantee will be expected to demonstrate adherence to the grantee's proposed program as described in the grantee's application. All grantees are subject to audits conducted by VA or its representative. Pursuant to § 62.80, when a grantee fails to comply with the terms, conditions, or standards of the supportive services grant, VA may, on 7-days notice to the grantee, withhold further payment, suspend the supportive services grant, or prohibit the grantee from incurring additional obligations of supportive services grant funds, pending corrective action by the grantee or a decision to terminate. Additionally, grantees who are identified as not meeting performance standards pursuant to § 62.80 are subject to withholding, suspension, deobligation, termination, and recovery of funds by VA.

4. Grantees will be assessed based on their ability to meet critical performance measures. In addition to meeting program requirements defined by the regulations and applicable NOFA(s), grantees will be assessed on their ability to place participants into housing and the housing retention rates of participants served. Higher placement for homeless participants and higher housing retention rates for participants at risk of homelessness are expected for very low-income Veteran families when compared to extremely low-income Veteran families with incomes below 30% of the area median income.

5. Grantees' performance will be assessed based on their consumer satisfaction scores. These scores include the participation rates and satisfaction results of the standardized survey offered to all participant households.

6. Organizations receiving renewal awards that have had ongoing SSVF program operation for at least 1 year (as measured from the start of initial SSVF services until February 10, 2024) may be eligible for a 3-year project period. Grantees meeting outcome goals defined by VA and in substantial compliance with their grant agreements (defined by meeting targets and having no outstanding corrective action plans) and who, in addition, have a 3-year accreditation from either CARF in Employment and Community Services: Rapid Rehousing and Homeless Prevention standards, a 4-year accreditation from COA in Supported Community Living Services, or a 3-year accreditation in The Joint Commission's Behavioral Health Care: Housing Support Services Standards are eligible for a 3-year project period. (NOTE: Multi-year project periods are contingent on funding availability.) If awarded a multiple year renewal, grantees may be eligible for funding increases as defined in NOFAs that correspond to years two and three of their renewal funding. At its discretion, VA may reduce 3-year project periods to a 1-year project period based on previous fiscal year performance concerns or most recent audit results.

VII. Other Information

A. VA Goals and Objectives for Funds Awarded Under this NOFA: In accordance with 38 CFR 62.24(c), VA will evaluate an applicant's compliance with VA goals and requirements for the SSVF Program. VA goals and requirements include the provision of supportive services designed to enhance the housing stability and independent living skills of very low-income Veteran families occupying permanent housing across geographic regions and program administration in accordance with all applicable laws, regulations, guidelines, and the SSVF grant agreement. For purposes of this NOFA, VA goals and requirements also include the provision of supportive services designed to rapidly re-house or prevent homelessness among people in the following target populations who also meet all requirements for being part of a very low-income Veteran family occupying permanent housing:

1. Veteran families earning less than 30% of area median income as most recently published by HUD for programs under section 8 of the U.S. Housing Act of 1937 (42 U.S.C. 1437f) (http://www.huduser.org).

2. Veterans with at least one dependent family member.

3. Veterans returning from Operation Enduring Freedom, Operation Iraqi Freedom or Operation New Dawn.

4. Veteran families located in a community, as defined by HUD's CoC, or a county not currently served by a SSVF grantee.

5. Veteran families located in a community, as defined by HUD's CoC, where the current level of SSVF services is not sufficient to meet demand of Category 2 and 3 (currently homeless) Veteran families.

6. Veteran families located in a rural area.

7. Veteran families located on Indian Tribal Property.

B. Payments of Supportive Services Grant Funds: Grantees will receive payments electronically through the HHS Payment Management System. Grantees will have the ability to request payments as frequently as they choose subject to the following limitations:

1. During the first quarter of the grantee's supportive services annualized grant award period, the grantee's cumulative requests for supportive services grant funds may not exceed 35% of the total supportive services grant award without written approval by VA.

2. By the end of the second quarter of the grantee's supportive services annualized grant award period, the grantee's cumulative requests for supportive services grant funds may not exceed 60% of the total supportive services grant award without written approval by VA.

3. By the end of the third quarter of the grantee's supportive services annualized grant award period, the grantee's cumulative requests for supportive services grant funds may not exceed 80% of the total supportive services grant award without written approval by VA.

4. By the end of the fourth quarter of the grantee's supportive services annualized grant award period, the grantee's cumulative requests for supportive services grant funds may not exceed 100% of the total supportive services grant award.

Signing Authority

Denis McDonough, Secretary of Veterans Affairs, approved and signed this document on November 29, 2023, and authorized the undersigned to sign and submit the document to the Office of the Federal Register for publication electronically as an official document of the Department of Veterans Affairs.

Jeffrey M. Martin,
Assistant Director, Office of Regulation Policy & Management, Office of General Counsel, Department of Veterans Affairs.

[FR Doc. 2023-26650 Filed 12-4-23; 8:45 am]

BILLING CODE 8320-01-P